DEPARTMENT OF COMMERCE

International Trade Administration

Environmental Technologies Trade Advisory Committee

AGENCY: International Trade Administration, U.S. Department of Commerce.

ACTION: Notice of an open meeting of a Federal advisory committee.

SUMMARY: The Environmental Technologies Trade Advisory Committee (ETTAC) will hold a virtual meeting, accessible to the public online, on Thursday, December 14, 2023. The meeting is open to the public with registration instructions provided below. This notice sets forth the schedule and proposed topics for the meeting.

DATES: The meeting is scheduled for Thursday, December 14, 2023 from 11 a.m. to 12:30 p.m. Eastern Standard Time (EST). The deadline for members of the public to register to participate, including requests to make comments during the meeting and for auxiliary aids, or to submit written comments for dissemination prior to the meeting, is 5 p.m. EST on Friday, December 1, 2023.

ADDRESSES: The meeting will be held virtually. Requests to register to participate (including to speak or for auxiliary aids) and any written comments should be submitted via email to Ms. Megan Hyndman, Office of Energy & Environmental Industries, International Trade Administration, at Megan.Hyndman@trade.gov.

FOR FURTHER INFORMATION CONTACT: Ms. Megan Hyndman, Office of Energy & Environmental Industries, International Trade Administration (Phone: 202-823-1839; email: Megan.Hyndman@trade.gov). Registered participants joining virtually will be emailed the login information for the meeting, which will be accessible as a livestream via WebEx Webinar.

SUPPLEMENTARY INFORMATION: The ETTAC is mandated by section 2313(c) of the Export Enhancement Act of 1988, as amended, 15 U.S.C. 4728(c), to advise the Environmental Trade Working Group of the Trade Promotion Coordinating Committee, through the Secretary of Commerce, on the development and administration of programs to expand U.S. exports of environmental technologies, goods, services, and products. The ETTAC was most recently re-chartered through August 16, 2024.

On Thursday, December 14, 2023 from 11 a.m. to 12:30 p.m. EST, the ETTAC will hold the fifth meeting of its current charter term. During the meeting, committee members will deliberate on approval of several proposed recommendations.

The meeting will be open to the public and time will be permitted for public comment before the close of the meeting. Members of the public seeking to attend the meeting are required to register by Friday, December 1, 2023, at 5 p.m. EST, via the contact information provided above. This meeting will be accessible to people with disabilities. Requests for sign language interpretation or other auxiliary aids should be directed to OEEI at Megan.Hyndman@trade.gov or (202) 823-1839 by the registration deadline. Requests received after this date will be accepted, but it may not be possible to accommodate them.

Written comments concerning ETTAC affairs are welcome any time before or after the meeting. To be considered during the meeting, written comments must be received by Friday, December 1, 2023, at 5 p.m. EST to ensure transmission to the members before the meeting. Draft minutes will be available within 30 days of this meeting.

Dated: November 20, 2023.
Man K. Cho,
Deputy Director, Office of Energy and Environmental Industries.

[FR Doc. 2023-26069 Filed 11-24-23; 8:45 am]

BILLING CODE 3510-DR-P